DEPARTMENT OF ENERGY

Federal Energy Regulatory Commission

Combined Notice Of Filings #1

Take notice that the Commission received the following electric rate filings:

Docket Numbers: ER10-3301-002, ER10-2757-003, ER10-2756-003.

Applicants: Arlington Valley, LLC, Griffith Energy LLC, GWF Energy LLC.

Description: Notice of Change in Status under Market Based Authority, et. al. of the Star West Companies.

Filed Date: 1/22/14.

Accession Number: 20140122-5228.

Comments Due: 5 p.m. ET 2/12/14.

Docket Numbers: ER13-2164-001.

Applicants: Southwest Power Pool, Inc.

Description: AG Study Backlog Clearing Process Tariff Revisions Compliance Filing to be effective 10/12/2013.

Filed Date: 11/8/13.

Accession Number: 20131108-5121.

Comments Due: 5 p.m. ET 2/3/14.

Docket Numbers: ER14-8-001.

Applicants: Public Service Company of Oklahoma.

Description: Operating Agreement Compliance to be effective 3/1/2014.

Filed Date: 1/24/14.

Accession Number: 20140124-5042.

Comments Due: 5 p.m. ET 2/14/14.

Docket Numbers: ER14-581-001.

Applicants: ISO New England Inc.

Description: Tariff Revisions Related to Demand Response Comm. Op. Auditing to be effective 6/1/2014.

Filed Date: 1/23/14.

Accession Number: 20140123-5057.

Comments Due: 5 p.m. ET 2/13/14.

Docket Numbers: ER14-724-001.

Applicants: Westar Energy, Inc.

Description: Amendment, Market-Based Rate Tariff to be effective 3/1/2014.

Filed Date: 1/23/14.

Accession Number: 20140123-5143.

Comments Due: 5 p.m. ET 2/3/14.

Docket Numbers: ER14-772-001.

Applicants: Fortistar North Tonawanda Inc.

Description: Supplemental Filing to be effective 1/23/2014.

Filed Date: 1/23/14.

Accession Number: 20140123-5063.

Comments Due: 5 p.m. ET 2/13/14.

Docket Numbers: ER14-1106-001.

Applicants: Duke Energy Carolinas, LLC.

Description: OATT 2nd Revised Attachment F-2 NITSA to be effective 1/1/2014.

Filed Date: 1/23/14.

Accession Number: 20140123-5000.

Comments Due: 5 p.m. ET 2/13/14.

Docket Numbers: ER14-1139-000.

Applicants: PacifiCorp.

Description: Termination of Logan City Construction Agreement to be effective 4/10/2014.

Filed Date: 1/23/14.

Accession Number: 20140123-5074.

Comments Due: 5 p.m. ET 2/13/14.

Docket Numbers: ER14-1140-000.

Applicants: Inspire Energy Holdings, LLC.

Description: Inspire Energy Holdings, LLC FERC Tariff Filing to be effective 1/24/2014.

Filed Date: 1/23/14.

Accession Number: 20140123-5092.

Comments Due: 5 p.m. ET 2/13/14.

Docket Numbers: ER14-1141-000.

Applicants: PJM Interconnection, L.L.C.

Description: 4th Quarter 2013 Updates to PJM Operating Agreement and RAA Membership Lists to be effective 12/31/2013.

Filed Date: 1/23/14.

Accession Number: 20140123-5125.

Comments Due: 5 p.m. ET 2/13/14.

Docket Numbers: ER14-1142-000.

Applicants: NorthWestern Corporation.

Description: SA 703—Yellowstone Valley Electric Coop Telemetry Construction Agreement to be effective 1/24/2014.

Filed Date: 1/23/14.

Accession Number: 20140123-5127.

Comments Due: 5 p.m. ET 2/13/14.

Docket Numbers: ER14-1143-000.

Applicants: ONEOK Energy Services Company, L.P.

Description: ONEOK Energy Services Notice of MBR Tariff Cancellation and Request for Waiver to be effective 1/23/2014.

Filed Date: 1/23/14.

Accession Number: 20140123-5144.

Comments Due: 5 p.m. ET 2/13/14.

Docket Numbers: ER14-1147-000.

Applicants: ISO New England Inc., New England Power Pool Participants Committee.

Description: Revisions to the NCPC Credit Rules to be effective 12/3/2014.

Filed Date: 1/24/14

Accession Number: 20140124-5050.

Comments Due: 5 p.m. ET 2/14/14.

Docket Numbers: ER14-1148-000.

Applicants: Public Service Company of Colorado.

Description: 2014-1-24_PSC-RDCWD-Rev-ISA-116-0.0.0-Filing to be effective 3/25/2014.

Filed Date: 1/24/14.

Accession Number: 20140124-5075.

Comments Due: 5 p.m. ET 2/14/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2014.
Nathaniel J. Davis, Sr.,
Deputy Secretary.

[FR Doc. 2014-02052 Filed 1-30-14; 8:45 am]

BILLING CODE 6717-01-P